DEPARTMENT OF TRANSPORTATION

Federal Aviation Administration

14 CFR Part 39

[Docket No. FAA-2007-27861 Directorate Identifier 2007-CE-035-AD; Amendment 39-15130; AD 2007-15-01]

RIN 2120-AA64

Airworthiness Directives; British Aerospace Regional Aircraft Jetstream HP.137 Jetstream Mk.1, Jetstream Series 200, Jetstream Series 3101, and Jetstream Model 3201 Airplanes

AGENCY: Federal Aviation Administration (FAA), Department of Transportation (DOT).

ACTION: Final Rule.

SUMMARY: We are adopting a new airworthiness directive (AD) for the products listed above. This AD results from mandatory continuing airworthiness information (MCAI) issued by an aviation authority of another country to identify and correct an unsafe condition on an aviation product. The MCAI describes the unsafe condition as:

In-service reports have been received by BAE of failed bolts fitted to frame 199 wing spigot post assembly. If left uncorrected failure of these bolts will severely compromise the structural integrity of the wing to fuselage attachment. Failure of which would lead to loss of the aircraft.

We are issuing this AD to require actions to correct the unsafe condition on these products.

DATES: This AD becomes effective August 22, 2007.

On August 22, 2007, the Director of the Federal Register approved the incorporation by reference of certain publications listed in this AD.

ADDRESSES: You may examine the AD docket on the Internet at http://dms.dot.gov or in person at Document Management Facility, U.S. Department of Transportation, Docket Operations, M-30, West Building Ground Floor, Room W12-140, 1200 New Jersey Avenue, SE., Washington, DC 20590.

FOR FURTHER INFORMATION CONTACT: Taylor Martin, Aerospace Engineer, FAA, Small Airplane Directorate, 901 Locust, Room 301, Kansas City, Missouri 64106; telephone: (816) 329-4138; facsimile: (816) 329-4090.

SUPPLEMENTARY INFORMATION:

Discussion

We issued a notice of proposed rulemaking (NPRM) to amend 14 CFR part 39 to include an AD that would apply to the specified products. That NPRM was published in the Federal Register on May 18, 2007 (72 FR 28005). That NPRM proposed to correct an unsafe condition for the specified products. The MCAI states:

In-service reports have been received by BAE of failed bolts fitted to frame 199 wing spigot post assembly. If left uncorrected failure of these bolts will severely compromise the structural integrity of the wing to fuselage attachment. Failure of which would lead to loss of the aircraft. To address these concerns, BAE issued SB 57-JA020740 original issue in February 2003 mandated by CAA AD 006-02-2003. Recently received additional information has caused BAE to raise the Service Bulletin to revision 2. Revision 2 of the SB introduces various changes. One is substantive, it relates to the need to check for correct washer installation. Incorrect installation could lead to fretting and fatigue crack initiation in the fitting followed by failure or bending loads in the bolt leading to failure of the affected bolts. If left uncorrected failure of these bolts or a wing fitting will severely compromise the structural integrity of the wing to fuselage attachment. Failure of which would lead to loss of the aircraft. This substantive change to the service bulletin necessitates the raising of this superseding AD.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 195 products of U.S. registry. We also estimate that it will take about 50 work-hours per product to comply with basic requirements of this AD. The average labor rate is $80 per work-hour. Required parts will cost about $100 per product. Where the service information lists required parts costs that are covered under warranty, we have assumed that there will be no charge for these parts. As we do not control warranty coverage for affected parties, some parties may incur costs higher than estimated here. We estimate the cost of this AD to the U.S. operators to be $799,500, or $4,100 per product.

In addition, we estimate that any necessary follow-on actions will take about 25 work-hours and require parts costing $100, for a cost of $2,100 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-15-01 British Aerospace Regional Aircraft: Amendment 39-15130; Docket No. FAA-2007-27861; Directorate Identifier 2007-CE-035-AD.

Effective Date

(a) This airworthiness directive (AD) becomes effective August 22, 2007.

Affected ADs

(b) None.

Applicability

(c) This AD applies to Jetstream HP.137 Jetstream Mk.1, Jetstream Series 200, Jetstream Series 3101, and Jetstream Model 3201 airplanes, all serial numbers, certificated in any category.

Subject

(d) Air Transport Association of America (ATA) Code 57: Wings.

Reason

(e) The mandatory continuing airworthiness information (MCAI) states:

In-service reports have been received by BAE of failed bolts fitted to frame 199 wing spigot post assembly. If left uncorrected failure of these bolts will severely compromise the structural integrity of the wing to fuselage attachment. Failure of which would lead to loss of the aircraft. To address these concerns, BAE issued SB 57-JA020740 original issue in February 2003 mandated by CAA AD 006-02-2003. Recently received additional information has caused BAE to raise the Service Bulletin to revision 2. Revision 2 of the SB introduces various changes. One is substantive, it relates to the need to check for correct washer installation. Incorrect installation could lead to fretting and fatigue crack initiation in the fitting followed by failure or bending loads in the bolt leading to failure of the affected bolts. If left uncorrected failure of these bolts or a wing fitting will severely compromise the structural integrity of the wing to fuselage attachment. Failure of which would lead to loss of the aircraft. This substantive change to the service bulletin necessitates the raising of this superseding AD.

Actions and Compliance

(f) Unless already done, do the following actions using British Aerospace Jetstream Series 3100 and 3200 Service Bulletin 57-JA020740, Revision 2, dated November 2, 2005.

(1) Inspect and torque check the bolts at frame 199 at the following compliance times:

(i) Initially within the next 90 days after August 22, 2007 (the effective date of this AD) or within the next 100 hours time-in-service (TIS) after August 22, 2007 (the effective date of this AD), whichever occurs first; and

(ii) Repetitively thereafter at intervals not to exceed 4,000 hours TIS.

(2) If any discrepancies are found in any of the inspections required in paragraph (f)(1) of this AD, before further flight, correct any discrepancies.

FAA AD Differences

Note: This AD differs from the MCAI and/or service information as follows: We added repetitive inspection requirements in this AD to coincide with the service bulletin.

Other FAA AD Provisions

(g) The following provisions also apply to this AD:

(1) Alternative Methods of Compliance (AMOCs): The Manager, Standards Staff, FAA, ATTN: Taylor Martin, Aerospace Engineer, FAA, Small Airplane Directorate, 901 Locust, Room 301, Kansas City, Missouri 64106; telephone: (816) 329-4138; fax: (816) 329-4090; has the authority to approve AMOCs for this AD, if requested using the procedures found in 14 CFR 39.19. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to European Aviation Safety Agency (EASA) AD No: G-2006-0003, dated February 2, 2006; and BAE SYSTEMS Jetstream Series 3100 and 3200 Service Bulletin 57-JA020740, Revision 2, dated November 2, 2005, for related information.

Material Incorporated by Reference

You must use BAE SYSTEMS Jetstream Series 3100 and 3200 Service Bulletin 57-JA020740, Revision 2, dated November 2, 2005, to do the actions required by this AD, unless the AD specifies otherwise.

(1) The Director of the Federal Register approved the incorporation by reference of this service information under 5 U.S.C. 552(a) and 1 CFR part 51.

(2) For service information identified in this AD, contact BAE Systems, Prestwick International Airport, Ayrshire, KA9 2RW, Scotland.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on July 9, 2007.
Sandra J. Campbell,
Acting Manager, Small Airplane Directorate, Aircraft Certification Service.

[FR Doc. E7-13793 Filed 7-17-07; 8:45 am]

BILLING CODE 4910-13-P